DEPARTMENT OF AGRICULTURE

Forest Service

Juneau Resource Advisory Committee

AGENCY: Forest Service, USDA.

ACTION: Notice of meeting.

SUMMARY: The Juneau Resource Advisory Committee will meet in Juneau, AK. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose is to hold a pre-work meeting prior to the project proposal deadline.

DATES: The meeting will be held on June 16, 2011, and will begin at 8 a.m.

ADDRESSES: The meeting will be held at the Juneau Ranger District, 8510 Mendenhall Loop Road, Juneau, AK. Written comments may be submitted as described under Supplementary Information.

All comments, including names and addresses when provided, are placed in the record and are available for public inspection and copying. The public may inspect comments received at Juneau Ranger District, 8510 Mendenhall Loop Road, Juneau, AK 99801. Please call ahead to 907-586-8800 to facilitate entry into the building to view comments.

FOR FURTHER INFORMATION CONTACT: Hannah Atadero, RAC Coordinator, PO Box 21628, Juneau, AK 99802; 907-586-8879; hatadero@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed For Further Information.

SUPPLEMENTARY INFORMATION: The following business will be conducted: (1) development and agreement on scoring criteria for project proposals, and (2) agreement on an initial meeting date for project proposal review. Anyone who would like to bring related matters to the attention of the committee may file written statements with the committee staff before or after the meeting. The agenda will include time for people to make oral statements of three minutes or less. Individuals wishing to make an oral statement should request in writing by June 6, 2011 to be scheduled on the agenda. Written comments and requests for time for oral comments must be sent to Hannah Atadero, Juneau Resource Advisory Committee, PO Box 21628, Juneau, AK 99802, or by e-mail to hatadero@fs.fed.us, or via facsimile to 907-586-7090.

Dated: May 25, 2011.
Forrest Cole,
Forest Supervisor.

[FR Doc. 2011-13641 Filed 6-1-11; 8:45 am]

BILLING CODE 3410-11-P